DEPARTMENT OF COMMERCE

National Oceanic and Atmospheric Administration

[RTID 0648-XD772]

Endangered and Threatened Species; Take of Anadromous Fish

AGENCY: National Marine Fisheries Service (NMFS), National Oceanic and Atmospheric Administration (NOAA), Commerce.

ACTION: Notice of receipt and availability; request for comments.

SUMMARY: Notice is hereby given that NMFS has received a permit application (25803) from NOAA's Southwest Fisheries Science Center Fisheries Ecology Division (FED) to continue hatchery activities associated with the Southern Coho Salmon Captive Broodstock Program (SCSCBP, or program) in accordance with its Hatchery and Genetic Management Plan (HGMP). The application has been submitted pursuant to the Endangered Species Act (ESA) of 1973, as amended. NMFS has also prepared a draft environmental assessment (EA) under the National Environmental Policy Act (NEPA) describing the potential effects of NMFS' proposed issuance of the Permit associated with the submitted HGMP. NMFS is furnishing this notice in order to allow other agencies, Tribes, and the public an opportunity to review and comment on these documents.

DATES: Written comments on the EA must be received at the appropriate address (see ADDRESSES) on or before 5 p.m. Pacific standard time on April 17, 2024.

ADDRESSES: You may submit comments on the permit application and draft EA by the following methods:

• Email: Include “Permit 25803” in the subject line. Joel.Casagrande@noaa.gov.

• Mail: Submit written comments to National Marine Fisheries Service, West Coast Region, Coastal California Office, 777 Sonoma Avenue, Room 325, Santa Rosa, California 95404; Attn: Joel Casagrande.

• The permit application, and attached HGMP, may be viewed online at: https://apps.nmfs.noaa.gov/preview/preview_open_for_comment.cfm.

• The draft EA document is available at: https://www.fisheries.noaa.gov/protected-resource-regulations.

FOR FURTHER INFORMATION CONTACT: Joel Casagrande, Santa Rosa, CA, (707) 575-6016, email: joel.casagrande@noaa.gov.

SUPPLEMENTARY INFORMATION:

ESA-Listed Species Covered in This Notice

Coho salmon (Oncorhynchus kisutch): Endangered, Central California Coast (CCC) Evolutionary Significant Unit (ESU).

Background

The FED has applied for an enhancement permit under section 10(a)(1)(A) of the ESA for a period of 10 years that would allow take of multiple life stages of CCC coho salmon. Hatchery activities would be permitted pursuant to the HGMP for the SCSCBP, which is attached to the application.

The purpose of the SCSCBP is to advance the conservation, viability, and recovery of the CCC coho salmon ESU, with an emphasis on populations in the Santa Cruz Mountains Diversity Stratum. The activities proposed for the SCSCBP are consistent with both the Federal recovery plan and state recovery strategy for coho salmon. The SCSCBP directly addresses recovery action ScC-CCC-10.1.1.6 in the Final CCC Coho Salmon ESU Recovery Plan (NMFS 2012) by using captive rearing to: reduce the risk of extinction due to genetic and demographic processes; preserve locally adapted phenotypes and genotypes; and promote regional recovery via the release of hatchery fish into streams from which they have been extirpated.

The program is jointly operated by FED and the Monterey Bay Salmon and Trout Project (MBSTP), with technical support provided by U.S. Army Corps of Engineers, NMFS, and the California Department of Fish and Wildlife. The program consists of the following main activities: broodstock collection; propagation; tissue collection for genetic analyses and other pathology screenings; captive rearing of coho salmon; fish marking and tagging; and the release of coho salmon (egg to adult life stages) into program streams in the Santa Cruz Mountains.

The broodstock are derived predominantly from hatchery-reared coho salmon juveniles from artificial propagation, as well as a small number of natural-origin coho salmon from coastal streams of the Santa Cruz Mountains, and a small number of coho salmon from the Russian River Coho Salmon Captive Broodstock Program (natural origin fish sourced from the Russian River or Lagunitas/Olema Creek basins) used as outbreeders to improve genetic diversity. Captive broodstock are initially propagated and reared at the Kingfisher Flat Hatchery (KFH) in Santa Cruz County until they are yearlings, whereupon they are divided among three facilities and subsequently reared to maturity. The three facilities are: KFH; Don Clausen Fish Hatchery in Sonoma County; and FED laboratory facility in the City of Santa Cruz, California. Previously, the FED and MBSTP conducted program activities under section 10 (a)(1)(A) permits 1112 and 1083, respectively.

Activities that constitute take of CCC coho salmon and would be permitted include: (1) handling and transport of broodstock and production fish between program facilities and the natural environment; (2) captive rearing and associated activities, including tissue sample collection, marking, and tagging; and (3) sacrifice for artificial propagation and routine pathology screenings. The HGMP includes measures to minimize take and both genetic and ecological effects to naturally produced CCC coho salmon and CCC steelhead (O. mykiss) resulting from operations at the facilities and as a result of fish releases into program streams.

References Cited

National Marine Fisheries Service (NMFS). 2012. Final Recovery Plan for Central California Coast coho salmon Evolutionarily Significant Unit. National Marine Fisheries Service, Southwest Region, Santa Rosa, California.

Authority

Section 9 of the ESA and Federal regulations prohibit the taking of a species listed as endangered or threatened. The ESA defines “take” to mean harass, harm, pursue, hunt, shoot, wound, kill, trap, capture, or collect, or to attempt to engage in any such conduct. NMFS may issue permits for scientific purposes or for the enhancement of the propagation or survival of the affected endangered or threatened species authorizing the taking, importation, or other acts otherwise prohibited by section 9 of the Act (50 CFR 222.308). The final permit decision will not be made until after the end of the 30-day comment period. NMFS will publish notice of its final action in the Federal Register.

NEPA requires Federal agencies to conduct an environmental analysis of their proposed actions to determine if the actions may affect the human environment (42 U.S.C. 4321 et seq.; 40 CFR 1500-1508; and Companion Manual for NOAA Administrative Order 216-6A). Therefore, NMFS is seeking public input on the scope of the required NEPA analysis in the EA, including the range of reasonable alternatives and associated impacts of any alternatives.

Dated: March 12, 2024.
Angela Somma,
Chief, Endangered Species Division, Office of Protected Resources, National Marine Fisheries Service.

[FR Doc. 2024-05561 Filed 3-15-24; 8:45 am]

BILLING CODE 3510-22-P